DEPARTMENT OF HEALTH AND HUMAN SERVICES

Administration for Children and Families

Office of Planning, Research and Evaluation (OPRE); Head Start-University Partnership Research Grants: Curriculum Development and Enhancement for Head Start and Early Head Start Programs

Announcement Type: Grant—Initial.

Funding Opportunity Number: HHS-2005-ACF-OPRE-YF-0070.

CFDA Number: 93.600.

Due Date for Letter of Intent or Preapplications: 6/03/2005.

Due Date for Applications: 7/01/2005.

Executive Summary: Funds are provided for Head Start-University Partnership Research Grants: Curriculum Development and Enhancement for Head Start and Early Head Start Programs, for research activities to develop and test curricular approaches, adaptations or targeted curriculum enhancements for use by Head Start and Early Head Start programs.

This grant program is part of a larger Head Start research effort. Three other grant funding mechanisms are being offered concurrently with the one described in this announcement. They include: (1) American Indian-Alaska Native Head Start Research Center, (2) Head Start Graduate Student Research Grants, and (3) Head Start Graduate Student Research Partnership Development Grants. For more information, please see these other Head Start Research announcements listed in the Federal Register or listed on http://www.Grants.Gov, or send an e-mail inquiry to opre@xtria.com.

Priority Area: Head Start-University Partnership Research Grants: Curriculum Development and Enhancement for Head Start and Early Head Start Programs.

I. Funding Opportunity Description

A. Purpose

The purpose of this announcement is to report the availability of funds to support research grants for the development of curricular approaches, adaptations or enhancements to practice for Head Start and Early Head Start programs. Grants will require researcher/program partnerships with Head Start and/or Early Head Start programs.

B. Statutory Authority

Section 649 of the Head Start Act, as amended by the COATES Human Services Reauthorization Act of 1998 (Pub. L. 105-285) and 42 U.S.C. 9844.

C. Background

Use of Curricula in Head Start and Early Head Start Programs

The Head Start program has long served as a national laboratory for the development of innovative strategies in early childhood education. Head Start also emphasizes a process of continuous program improvement and has more recently been a leader in developing outcome-oriented accountability measures. Programs must comply with the Head Start performance standards, which provide a standard definition of quality services and serve as a training guide for staff and parents on the key elements of quality. Among other things, the performance standards require that all Head Start programs implement a curriculum; however, use of a particular curriculum is not prescribed. The standards specify that programs must, in collaboration with parents, implement a curriculum that:

(i) Supports each child's individual pattern of development and learning;

(ii) Provides for the development of cognitive skills by encouraging each child to organize his or her experiences, to understand concepts and to develop age appropriate literacy, numeracy, reasoning, problem solving and decision-making skills which form a foundation for school readiness and later school success;

(iii) Integrates all educational aspects of the health, nutrition and mental health services into program activities;

(iv) Ensures that the program environment helps children develop emotional security and facility in social relationships;

(v) Enhances each child's understanding of self as an individual and as a member of a group;

(vi) Provides each child with opportunities for success to help develop feelings of competence, self-esteem and positive attitudes toward learning; and

(vii) Provides individual and small group experiences both indoors and outdoors.

Additionally, the standards state that staff must use a variety of strategies to promote and support children's learning and developmental progress based on observations and on-going assessment of each child (see 45 CFR 1304.20(b), 1304.20(d) and 1304.20(e)).

The annual Head Start Program Information Report (PIR) requests information from all Head Start and Early Head Start programs about the curricula they use. Data from the most recent PIR reveal that center-based programs are most likely to use one of two curricula (Creative Curriculum and High/Scope). Locally designed curricula are the third most common category, and the High Reach curriculum is the fourth. A range of other curricula are utilized by the remaining programs.

The Head Start Child Outcomes Framework and National Studies

Released in 2000, the Head Start Child Outcomes Framework is intended to guide Head Start programs in their curriculum planning and on-going assessment of progress and accomplishments of children. The Framework is composed of 8 general Domains, 27 Domain Elements and examples of specific indicators related to each Domain/Domain Element. For more information, see http://www.headstartinfo.org/publications/hsbulletin76/hsb76_09.htm.

The Head Start Child Outcomes Framework placed these outcomes in the context of a comprehensive focus on multiple domains of development. Programs are required to implement on-going developmental assessments across these domains, using measures aligned with their chosen curricula.

A number of on-going national studies are contributing to our understanding of outcomes for children served in Head Start and Early Head Start programs:

—Family and Child Experiences Survey (FACES).

FACES is a national longitudinal study of the cognitive, social, emotional, and physical development of Head Start children; the characteristics, well-being, and accomplishments of families; the observed quality of Head Start classrooms; and the characteristics, needs, and opinions of Head Start teachers and other program staff. In three successive cohorts (1997, 2000 and 2003), data have been collected on a representative sample of children served in Head Start programs. Children and parents are studied at entry into the program, followed for one or two years of program participation and followed-up at the end of the kindergarten year. For more information, please see http://www.acf.hhs.gov/programs/opre/hs/faces/index.html.

The FACES study provides information about associations between use of certain curricula and measures of classroom quality, as well as child outcomes. However, these associations do not fill the gap in evidence about the relative efficacy of various types of standardized curricula. Moreover, what we do know is based primarily on observations and data collection in classroom-based programs. These data do not speak to the efficacy of standard curricula for children served in home-based settings or in Early Head Start programs, or for different populations of Head Start children, such as children with disabilities, English Language Learners, or those served in Migrant and Seasonal or American Indian/Alaska Native Head Start Programs.

—Head Start Impact Study.

The Head Start reauthorization of 1998 (COATES, Pub. L. 105-285) mandated a study of the national impact of Head Start. The Head Start Impact Study is a longitudinal study involving approximately 5,000-6,000 three- and four-year old preschool children across an estimated 75 nationally representative grantee/delegate agencies in communities where there are more eligible children and families than can be served by the program. The children participating are randomly assigned to either a treatment group (which receives Head Start services) or a comparison group (which does not receive Head Start services). Data collection for this study began in the fall of 2002 and will continue through 2006, following children through the spring of their first grade year. It includes twice yearly in-person interviews with parents, in-person child assessments, annual surveys with care providers and teachers, direct observations of the quality of different care settings and teacher ratings of children. The FACES battery was updated for this study to focus particularly on measures likely to be responsive to intervention and appropriate for settings other than Head Start. For more information please see http://www.acf.hhs.gov/programs/opre/hs/impact_study/index.html.

—Early Head Start Research and Evaluation Project.

In 1996, 17 Early Head Start (EHS) programs from across the country were selected to participate in a rigorous, large-scale, random-assignment evaluation. The Congressionally-mandated Birth to Three Phase (1996-2001) included an Implementation Study, designed to study how these very first EHS programs grew over time, and an Impact Evaluation, designed to study program impacts on children and families through the children's second and third birthdays. In 2001, the Administration for Children and Families (ACF) funded the Pre-Kindergarten Follow-up Phase (2001-2004) to build upon the earlier research and follow the children and families who were in the original study from the time they left the EHS program until they entered kindergarten. For more information please see http://www.acf.hhs.gov/programs/opre/ehs/ehs_resrch/index.html.

—National Reporting System (NRS).

In April 2002, as part of the Good Start, Grow Smart initiative, President Bush announced a National Reporting System for Head Start to conduct direct assessments of Head Start children at the beginning and end of the year prior to kindergarten entry. Please see http://www.whitehouse.gov/infocus/earlychildhood/earlychildhood.html. A brief child assessment battery was developed to assess all 4- and 5-year olds on a limited set of language, literacy and numeracy outcomes from the set of outcomes described in the Head Start Child Outcomes Framework. The system was launched in fall, 2003. For more information please see http://www.acf.hhs.gov/programs/hsb/pdf/NRS.pdf.

Related Research Efforts: Enhancing Program Quality and Improving Program Practice

In recent years, a variety of efforts funded by ACF and in collaboration with other Federal agencies have been initiated to address program quality and to enhance program practice in Head Start and Early Head Start programs. As part of these efforts, several consortia and projects have been funded to examine use of specific approaches and curricula to enhance outcomes:

—Quality Research Center Consortium.

In 2001, ACF funded a second round of cooperative agreements under the Head Start Quality Research Center (QRC) Consortium to promote the school readiness of preschool children in Head Start. These five-year grants funded partnerships between academic researchers and Head Start programs designed to improve child outcomes in the areas of literacy, social-emotional development and other domains of school readiness, through enhancements to curriculum, teacher training and mentoring, parent involvement and assessment practices. Research teams have implemented and evaluated their interventions with Head Start program partners in an initial site, and then replicated the interventions with additional sites. For more information, please see http://www.acf.hhs.gov/programs/opre/hs/qrc_two/index.html.

—Interagency School Readiness Consortium.

The National Institute of Child Health and Human Development (NICHD), ACF, and the Assistant Secretary for Planning and Evaluation (ASPE) within the U.S. Department of Health and Human Services (HHS), and the Office of Special Education and Rehabilitation Services (OSERS) in the U.S. Department of Education collaboratively funded eight projects as part of the Interagency School Readiness Consortium (ISRC). Grantees were to implement rigorous scientific studies of the effectiveness of integrative early childhood interventions and programs across a variety of early childhood settings in promoting school readiness for children from birth through age five who are at risk for school difficulties. Integrative programs were defined as ones that include components intended to promote children's school readiness across multiple domains of cognitive and socio-emotional functioning.

—Early Promotion and Intervention Research Consortium.

In 2002, ACF awarded five cooperative agreements as part of the Early Promotion and Intervention Research Consortium (E-PIRC). These four-year grants funded partnerships between academic researchers and Early Head Start programs to develop and test approaches to supporting mental health of infants and toddlers and their families. This effort is part of the Early Head Start Mental Health initiative, which emerged from the Infant Mental Health Forum, a national meeting convened by the Head Start Bureau in October 2000. Projects funded under the consortium are expected to provide empirically validated approaches to providing comprehensive mental health services for very young children and their families. For more information please see http://www.acf.hhs.gov/programs/opre/ehs/epirc/index.html.

—Preschool Curriculum Evaluation Research Program.

In an effort to address the lack of evidence regarding the effectiveness of classroom curricula, the U.S. Department of Education awarded seven grants in 2002 under the Preschool Curriculum Evaluation Research (PCER) Program. Grantees implemented rigorous evaluations (randomized clinical trails) of already developed classroom curricula to evaluate their effectiveness in terms of outcomes in areas such as language skill, pre-reading and pre-math abilities, cognition, general knowledge and social competence. The outcomes of greatest interest in the PCER program are those skills that are most highly predictive of academic success in the early years of elementary school and that are most amenable to influence by factors within the realm of classroom curricula and practice. Specific curricula being examined by grantees in the PCER Program include ones that are widely used by Head Start Programs (e.g., Creative Curriculum) as well as other curricula that target literacy and Pre-K mathematics skills. For more information, please see http://www.ed.gov/news/pressreleases/2002/07/07252002.html.

—Innovation and Improvement Projects.

In addition to the various consortia described above, the Head Start Bureau recently funded 30 grants to support Innovation and Improvement Projects. These projects are based on quality enhancement ideas generated by local Head Start programs and partners. Grants provide support for a planning period of nine months, and based on the results, the Bureau will select a subset to be funded for a three-year implementation period.

—Design Options for Studying Head Start Quality Enhancements.

The goal of this project is to develop plans for systematically evaluating the effectiveness of quality enhancement efforts in Head Start. Reports from the project will describe advantages and disadvantages of various approaches to evaluation, and will discuss the challenges of implementing quality enhancement ideas in a way that they can be fairly and credibly evaluated. Reports will also identify measures of successful implementation of outcomes for children and of family and program characteristics.

D. Priorities

This announcement should be considered in light of the existing research programs described in Section C. Several, including the ISRC and PCER program, are intended to support large-scale research studies documenting the characteristics and effectiveness of curricula, interventions or programs across a variety of early childhood settings. Funds available under this announcement will support projects that complement these efforts by developing and testing the next generation of curricula or targeted curriculum adaptations for use in Head Start and Early Head Start programs. These curricular approaches will be designed to enhance existing practice and support child outcomes by addressing special topics or population needs. In future years, larger-scale studies may be considered to more widely test particularly promising approaches emerging from this program.

Grants funded under this announcement will focus on one or more of the following priority areas:

—Curricula for working with Head Start or Early Head Start parents, children or staff that target specific outcomes (e.g., language and literacy, early mathematics, social-emotional functioning, social skills and parenting skills).

—Curricula targeted for specific service delivery modes (e.g., home-based or family child care).

Special priorities include curricula designed or adapted for use with:

—Under-served Head Start and Early Head Start populations such as English Language Learners, dual English/Native Language speakers; expectant women and families; American Indian/Alaska Natives, and Migrant and Seasonal children and families.

—Children and families considered to be at risk, such as children with disabilities (including behavioral disorders); children with developmental delays; families experiencing substance abuse or mental illness; and families involved in the child welfare system.

Applicants funded under this announcement will provide plans for development, implementation and initial evaluation of the curricular approach. An important element of this announcement is the requirement that researchers demonstrate a partnership or partnerships with Head Start or Early Head Start programs during all of these phases. The first year of the grant is expected to be devoted to activities related to curriculum development and planning for implementation. The goals in this stage are to ensure that the theory guiding development of the approach is well-defined, implementation procedures and documentation are developed, measures of fidelity are established and appropriate outcome measures are selected or developed. During years two and three of the grant, implementation and initial evaluation of the approach will take place. The applicant should provide plans for conducting both a process and an outcome evaluation. The process evaluation will provide information about whether the approach can be implemented successfully and with a reasonable level of resources. The outcome evaluation will provide information about the effectiveness of the approach as implemented under favorable conditions (that is, in Head Start/Early Head Start programs working in partnership with the researcher).

Based on availability of funds, successful grantees may be selected through a limited competition to conduct additional studies (including larger-scale studies incorporating treatment and control groups formed through random assignment) of selected approaches and to disseminate products in manualized form. Curricula developed under this announcement are governed by the terms of 45 CFR part 74.36 regarding subsequent sale and distribution.

Priority Area

1. Description

II. Award Information

Funding Instrument Type: Grant.

Anticipated Total Priority Area Funding: $1,000,000.

Anticipated Number of Awards: 8 to 10.

Ceiling on Amount of Individual Awards: $100,000 per budget period.

Floor on Amount of Individual Awards: None.

Average Projected Award Amount: $100,000 per budget period.

Length of Project Periods: 36 month project with three 12 month budget periods.

The Federal share of project costs shall not exceed $100,000 for the first 12-month budget period inclusive of indirect costs and shall not exceed $200,000 per year for the second through third 12-month budget periods. An application that exceeds the upper value dollar range specified will be considered “non-responsive” and be returned to the applicant without further review. The project period will be up to three years. The initial award will be for the first one-year budget period. Requests for a second and/or third year of funding within the project period should be identified in the current application (on SF-424A), but such requests will be considered in subsequent years on a noncompetitive basis, subject to the applicant's eligibility status, the availability of funds, satisfactory progress of the grantee, and a determination that continued funding would be in the best interest of the government.

III. Eligibility Information

1. Eligible Applicants:

• State controlled institutions of higher education.

• Non-profits having a 501(c)(3) status with the IRS, other than institutions of higher education.

• Private institutions of higher education.

Additional Information on Eligibility:

A. Eligible applicants are universities, four-year colleges, and not-for-profit institutions on behalf of researchers who hold a doctorate degree or equivalent in their respective fields. The Principal Investigator must conduct research as a primary professional responsibility, and have published or have been accepted for publication in the major peer-reviewed research journals in the field as a first author or second author.

B. An important element of this announcement is the requirement that researchers demonstrate a partnership or partnerships with Head Start or Early Head Start programs as part of the development, piloting, refinement, training, and use of curricula. The application must contain a “Letter of Agreement” from the Head Start or Early Head Start program certifying that they have entered into a partnership with the applicant and a separate letter stating that the application has been reviewed and approved by the Head Start or Early Head Start Policy Council (see Section IV. Application and Submission Information for further details about these letters).

C. The Principal Investigator must agree to attend two meetings each year. The first is an annual grantee meeting, which is typically scheduled during the summer or fall of each year and is held in Washington, DC. The second meeting each year alternates between the biennial Head Start National Research Conference in Washington, DC (June 26-29, 2006) and the biennial meeting of the Society for Research in Child Development (SRCD). The budget should reflect travel funds for such purposes.

Faith-based and community-based organizations are eligible to apply.

Please see Section V.1 Evaluation Criteria for more information on how applications will be scored based on these program requirements.

2. Cost Sharing/Matching: None.

3. Other:

All applicants must have a Dun & Bradstreet number. On June 27, 2003 the Office of Management and Budget published in the Federal Register a new Federal policy applicable to all Federal grant applicants. The policy requires Federal grant applicants to provide a Dun & Bradstreet Data Universal Numbering System (DUNS) number when applying for Federal grants or cooperative agreements on or after October 1, 2003. The DUNS number will be required whether an applicant is submitting a paper application or using the government-wide electronic portal (http://www.Grants.gov). A DUNS number will be required for every application for a new award or renewal/continuation of an award, including applications or plans under formula, entitlement and block grant programs, submitted on or after October 1, 2003.

Please ensure that your organization has a DUNS number. You may acquire a DUNS number at no cost by calling the dedicated toll-free DUNS number request line on 1-866-705-5711 or you may request a number on-line at http://www.dnb.com.

Non-profit organizations applying for funding are required to submit proof of their non-profit status.

Proof of non-profit status is any one of the following:

• A reference to the applicant organization's listing in the Internal Revenue Service's (IRS) most recent list of tax-exempt organizations described in the IRS Code.

• A copy of a currently valid IRS tax exemption certificate.

• A statement from a State taxing body, State attorney general, or other appropriate State official certifying that the applicant organization has a non-profit status and that none of the net earning accrue to any private shareholders or individuals.

• A certified copy of the organization's certificate of incorporation or similar document that clearly establishes non-profit status.

• Any of the items in the subparagraphs immediately above for a State or national parent organization and a statement signed by the parent organization that the applicant organization is a local non-profit affiliate.

When applying electronically we strongly suggest you attach your proof of non-profit status with your electronic application.

Private, non-profit organizations are encouraged to submit with their applications the survey located under “Grant Related Documents and Forms,” “Survey for Private, Non-Profit Grant Applicants,” titled, “Survey on Ensuring Equal Opportunity for Applicants,” at: http://www.acf.hhs.gov/programs/ofs/forms.htm.

Disqualification Factors:

Applications that exceed the ceiling amount will be considered non-responsive and will not be considered for funding under this announcement.

Any application that fails to satisfy the deadline requirements referenced in Section IV.3 will be considered non-responsive and will not be considered for funding under this announcement.

IV. Application and Submission Information

1. Address to Request Application Package: Head Start Research Support Technical Assistance Team, OPRE Grant Review Team, Xtria, LLC, 8045 Leesburg Pike, Suite 400, Vienna, VA 22182, Phone: 877-663-0250, E-mail: opre@xtria.com.

2. Content and Form of Application Submission:

Notice of Intent to Submit an Application:

If you plan to submit an application, you must notify us by fax or e-mail by June 3, 2005. This information will be used only to determine the number of expert reviewers needed to review the applications. Include only the following information in this fax or e-mail: the number and title of this announcement; the names, addresses, telephone and fax numbers, e-mail addresses of the principle investigator and the fiscal agent (if known); and the name of the university, non-profit institution of higher education or other eligible organization. Do not include a description of your proposed project. Send this information to:

“Head Start Research Support Technical Assistance Team”, Fax: 1-703-356-0472, E-mail: opre@xtria.com.

Format and Organization: Applicants are strongly encouraged to limit their application to 100 pages, double-spaced, with standard one-inch margins and 12 point fonts. This page limit applies to both narrative text and supporting materials but not the Standard Federal Forms (see list below). Applicants must number the pages of their application beginning with the Table of Contents.

Applicants are advised to include all required forms and materials and to organize these materials according to the format, and in the order, presented below:

a. Cover letter.

b. Contact information sheet (see details below).

c. Standard Federal forms.

Standard Application for Federal Assistance (form 424).

Budget Information—Non-construction Programs (424A).

Certifications regarding lobbying.

Disclosures of lobbying activities (if necessary).

Certification regarding environmental tobacco smoke.

Assurance Regarding Non-construction Programs (form 424B).

Assurance regarding protection of human subjects.

d. Table of contents.

e. Project abstract (not to exceed one page).

f. Project narrative statement (see details below).

g. Appendices.

Proof of nonprofit status (see Section III.3).

Letter(s) of agreement with Head Start program(s) (see details below).

Letter(s) of agreement with Head Start Policy Council(s) (see details below).

Curriculum vitae for principal investigators.

Content of Contact Information Sheet: The contact information sheet should include complete contact information, including addresses, phone and fax numbers, and e-mail addresses, for the Principal Investigator(s), and the institution's grants/financial officer (person who signs the SF-424).

Content of Project Narrative Statement: The project narrative should be carefully developed in accordance with ACF's research goals and agenda, as described in the Purpose, Background, and Priorities sections of this funding opportunity, and the structure requirements listed in Section V. Application Review Information.

Content of Letters of Agreement: For research conducted with Head Start, the application must contain (A) an original copy of a letter from the Head Start or Early Head Start program certifying that they have entered into a research partnership with the applicant and (B) a separate letter certifying that the application has been reviewed and approved by the local Head Start Program Policy Council. This certification or approval or pending approval by the Policy Council must be an original letter from the official representative of the Policy Council itself.

You may submit your application to us in either electronic or paper format. To submit an application electronically, please use the http://www.Grants.gov/Apply site. If you use Grants.gov, you will be able to download a copy of the application package, complete it off-line, and then upload and submit the application via the Grants.gov site. ACF will not accept grant applications via email or facsimile transmission.

Please note the following if you plan to submit your application electronically via Grants.gov:

• Electronic submission is voluntary, but strongly encouraged.

• When you enter the Grants.gov site, you will find information about submitting an application electronically through the site, as well as the hours of operation. We strongly recommend that you do not wait until the application deadline date to begin the application process through Grants.gov.

• We recommend you visit Grants.gov at least 30 days prior to filing your application to fully understand the process and requirements. We encourage applicants who submit electronically to submit well before the closing date and time so that if difficulties are encountered an applicant can still send in a hard copy overnight. If you encounter difficulties, please contact the Grants.gov Help Desk at 1-800-518-4276 to report the problem and obtain assistance with the system.

• To use Grants.gov, you, as the applicant, must have a DUNS Number and register in the Central Contractor Registry (CCR). You should allow a minimum of five days to complete the CCR registration.

• You will not receive additional point value because you submit a grant application in electronic format, nor will we penalize you if you submit an application in paper format.

• You may submit all documents electronically, including all information typically included on the SF 424 and all necessary assurances and certifications.

• Your application must comply with any page limitation requirements described in this program announcement.

• After you electronically submit your application, you will receive an automatic acknowledgement from Grants.gov that contains a Grants.gov tracking number. The Administration for Children and Families will retrieve your application from Grants.gov.

• We may request that you provide original signatures on forms at a later date.

• You may access the electronic application for this program on http://www.Grants.gov.

• You must search for the downloadable application package by the CFDA number.

Applicants that are submitting their application in paper format should submit an original and two copies of the complete application. The original and each of the two copies must include all required forms, certifications, assurances, and appendices, be signed by an authorized representative, have original signatures, and be submitted unbound.

Private, non-profit organizations are encouraged to submit with their applications the survey located under “Grant Related Documents and Forms,” “Survey for Private, Non-Profit Grant Applicants,” titled, “Survey on Ensuring Equal Opportunity for Applicants,” at: http://www.acf.hhs.gov/programs/ofs/forms.htm.

Standard Forms and Certifications:

The project description should include all the information requirements described in the specific evaluation criteria outlined in the program announcement under Section V Application Review Information. In addition to the project description, the applicant needs to complete all the standard forms required for making applications for awards under this announcement.

Applicants seeking financial assistance under this announcement must file the Standard Form (SF)-424, Application for Federal Assistance; SF-424A, Budget Information—Non-Construction Programs; SF-424B, Assurances—Non-Construction Programs. The forms may be reproduced for use in submitting applications. Applicants must sign and return the standard forms with their application.

Applicants must furnish prior to award an executed copy of the Standard Form LLL, Certification Regarding Lobbying, when applying for an award in excess of $100,000. Applicants who have used non-Federal funds for lobbying activities in connection with receiving assistance under this announcement shall complete a disclosure form, if applicable, with their applications (approved by the Office of Management and Budget under control number 0348-0046). Applicants must sign and return the certification with their application.

Applicants must also understand they will be held accountable for the smoking prohibition included within Pub. L. 103-227, Title XII Environmental Tobacco Smoke (also known as the PRO-KIDS Act of 1994). A copy of the Federal Register notice which implements the smoking prohibition is included with this form. By signing and submitting the application, applicants are providing the certification and need not mail back the certification with the application.

Applicants must make the appropriate certification of their compliance with all Federal statutes relating to nondiscrimination. By signing and submitting the applications, applicants are providing the certification and need not mail back the certification form. Complete the standard forms and the associated certifications and assurances based on the instructions on the forms. The forms and certifications may be found at: http://www.acf.hhs.gov/programs/ofs/forms.htm.

Those organizations required to provide proof of non-profit status, please refer to Section III.3.

Please see Section V.1 for instructions on preparing the full project description.

3. Submission Dates and Times:

Due Date For Letter of Intent or Preapplications: 6/3/2005.

Due Date for Applications: 07/1/2005.

Explanation of Due Dates

The closing time and date for receipt of applications is referenced above. Applications received after 4:30 p.m. eastern time on the closing date will be classified as late.

Deadline: Applications shall be considered as meeting an announced deadline if they are received on or before the deadline time and date referenced in Section IV.6. Applicants are responsible for ensuring applications are mailed or submitted electronically well in advance of the application due date.

Applications hand carried by applicants, applicant couriers, other representatives of the applicant, or by overnight/express mail couriers shall be considered as meeting an announced deadline if they are received on or before the deadline date, between the hours of 8 a.m. and 4:30 p.m., eastern time, at the address referenced in Section IV.6., between Monday and Friday (excluding Federal holidays).

ACF cannot accommodate transmission of applications by facsimile. Therefore, applications transmitted to ACF by fax will not be accepted regardless of date or time of submission and time of receipt.

Late Applications: Applications that do not meet the criteria above are considered late applications. ACF shall notify each late applicant that its application will not be considered in the current competition.

Any application received after 4:30 p.m. eastern time on the deadline date will not be considered for competition.

Applicants using express/overnight mail services should allow two working days prior to the deadline date for receipt of applications. Applicants are cautioned that express/overnight mail services do not always deliver as agreed.

Extension of deadlines: ACF may extend application deadlines when circumstances such as acts of God (floods, hurricanes, etc.) occur, or when there are widespread disruptions of mail service, or in other rare cases. A determination to extend or waive deadline requirements rests with the Chief Grants Management Officer.

Receipt acknowledgement for application packages will be provided to applicants who submit their package via mail, courier services, or by hand delivery. Applicants will receive an electronic acknowledgement for applications that are submitted via http://www.Grants.gov.

Checklist:

You may use the checklist below as a guide when preparing your application package.

-
What to submit | Required content | Required form or format | When to submit
Project Abstract | See Sections IV.2 and V | Found in Sections IV.2 and V | By application due date.
Project Description | See Sections IV.2 and V | Found in Sections IV.2 and V | By application due date.
Budget Narrative/Justification | See Sections IV.2 and V | Found in Sections IV.2 and V | By application due date.
SF424 | See Section IV.2 | See http://www.acf.hhs.gov/programs/ofs/forms.htm | By application due date.
SF-LLL Certification Regarding Lobbying | See Section IV.2 | See http://www.acf.hhs.gov/programs/ofs/forms.htm | By date of award.
Certification Regarding Environmental Tobacco Smoke | See Section IV.2 | See http://www.acf.hhs.gov/programs/ofs/forms.htm | By date of award.
Assurances | See Section IV.2 | http://www.acf.hhs.gov/programs/ofs/forms.htm | By date of award.
Letter of Intent | See Section IV.2 | Found in Section IV.2 | 06/03/2005.
Table of Contents | See Section IV.2 | Found in Section IV.2 | By application due date.
Support Letters | IV.2 | IV.2 | By application due date.
Proof of Non-Profit Status | See Section III.3 | Found in Section III.3 | By date of award.
Letters of Agreement with Head Start Program(s) | IV.2. | IV.2. | By date of award.
Letters of Agreement with Head Start Program(s)Policy Council | IV.2. | IV.2. | By date of award.
Curriculum Vitae for Principal Investigators | IV.2. | IV.2. | By date of award.
Assurance Regarding Protection of Human Subjects | IV.2 | http://www.acf.hhs.gov/programs/ofs/forms.htm | By date of award.

Additional Forms:

Private, non-profit organizations are encouraged to submit with their applications the survey located under “Grant Related Documents and Forms,” “Survey for Private, Non-Profit Grant Applicants,” titled, “Survey on Ensuring Equal Opportunity for Applicants,” at: http://www.acf.hhs.gov/programs/ofs/forms.htm.

-
What to submit | Required content | Required form or format | When to submit
Survey for Private, Non-Profit Grant Applicants | See form | Found in http://www.acf.hhs.gov/programs/ofs/forms.htm | By application due date.

4. Intergovernmental Review:

State Single Point of Contact (SPOC)

This program is covered under Executive Order 12372, “Intergovernmental Review of Federal Programs,” and 45 CFR part 100, “Intergovernmental Review of Department of Health and Human Services Programs and Activities.” Under the Order, States may design their own processes for reviewing and commenting on proposed Federal assistance under covered programs.

As of October 1, 2004, the following jurisdictions have elected to participate in the Executive Order process: Arkansas, California, Delaware, District of Columbia, Florida, Georgia, Illinois, Iowa, Kentucky, Maine, Maryland, Michigan, Mississippi, Missouri, Nevada, New Hampshire, New Mexico, New York, North Dakota, Rhode Island, South Carolina, Texas, Utah, West Virginia, Wisconsin, American Samoa, Guam, North Mariana Islands, Puerto Rico, and Virgin Islands. As these jurisdictions have elected to participate in the Executive Order process, they have established SPOCs. Applicants from participating jurisdictions should contact their SPOC, as soon as possible, to alert them of prospective applications and receive instructions. Applicants must submit all required materials, if any, to the SPOC and indicate the date of this submittal (or the date of contact if no submittal is required) on the Standard Form 424, item 16a. Under 45 CFR 100.8(a)(2).

A SPOC has 60 days from the application deadline to comment on proposed new or competing continuation awards. SPOCs are encouraged to eliminate the submission of routine endorsements as official recommendations. Additionally, SPOCs are requested to clearly differentiate between mere advisory comments and those official State process recommendations which may trigger the “accommodate or explain” rule.

When comments are submitted directly to ACF, they should be addressed to the U.S. Department of Health and Human Services, Administration for Children and Families, Office of Grants Management, Division of Discretionary Grants, 370 L'Enfant Promenade SW., 4th floor, Washington, DC 20447.

Although the remaining jurisdictions have chosen not to participate in the process, entities that meet the eligibility requirements of the program are still eligible to apply for a grant even if a State, Territory, Commonwealth, etc. does not have a SPOC. Therefore, applicants from these jurisdictions, or for projects administered by federally-recognized Indian Tribes, need take no action in regard to E.O. 12372.

The official list, including addresses, of the jurisdictions that have elected to participate in E.O. 12372 can be found on the following URL: http://www.whitehouse.gov/omb/grants/spoc.html.

5. Funding Restrictions:

Grant awards will not allow reimbursement of pre-award costs.

6. Other Submission Requirements:

Submission by Mail: An applicant must provide an original application with all attachments, signed by an authorized representative and two copies. Please see Section IV.3 for an explanation of due dates. Applications should be mailed to: Head Start Research Support Technical Assistance Team, OPRE Grant Review Team, Xtria, LLC, 8045 Leesburg Pike, Suite 400, Vienna, VA 22182.

Hand Delivery: An applicant must provide an original application with all attachments signed by an authorized representative and two copies. The application must be received at the address below by 4:30 p.m. eastern time on or before the closing date. Applications that are hand delivered will be accepted between the hours of 8 a.m. to 4:30 p.m. eastern time, Monday through Friday. Applications should be delivered to: Head Start Research Support Technical Assistance Team, OPRE Grant Review Team, Xtria, LLC, 8045 Leesburg Pike, Suite 400, Vienna, VA 22182.

Electronic Submission: Please see Section IV.2 for guidelines and requirements when submitting applications electronically via http://www.Grants.gov.

V. Application Review Information

The Paperwork Reduction Act of 1995 (Pub. L. 104-13)

Public reporting burden for this collection of information is estimated to average 25 hours per response, including the time for reviewing instructions, gathering and maintaining the data needed and reviewing the collection information.

The project description is approved under OMB control number 0970-0139 which expires 4/30/2007.

An agency may not conduct or sponsor, and a person is not required to respond to, a collection of information unless it displays a currently valid OMB control number.

1. Criteria:

The following are instructions and guidelines on how to prepare the “project summary/abstract” and “full project description” sections of the application. Under the evaluation criteria section, note that each criterion is preceded by the generic evaluation requirement under the ACF Uniform Project Description (UPD).

Part I—The Project Description Overview

Purpose

The project description provides a major means by which an application is evaluated and ranked to compete with other applications for available assistance. The project description should be concise and complete and should address the activity for which Federal funds are being requested. Supporting documents should be included where they can present information clearly and succinctly. In preparing your project description, information responsive to each of the requested evaluation criteria must be provided. Awarding offices use this and other information in making their funding recommendations. It is important, therefore, that this information be included in the application in a manner that is clear and complete.

General Instructions

ACF is particularly interested in specific project descriptions that focus on outcomes and convey strategies for achieving intended performance. Project descriptions are evaluated on the basis of substance and measurable outcomes, not length. Extensive exhibits are not required. Cross-referencing should be used rather than repetition. Supporting information concerning activities that will not be directly funded by the grant or information that does not directly pertain to an integral part of the grant funded activity should be placed in an appendix.

Pages should be numbered and a table of contents should be included for easy reference.

Project Summary/Abstract

Provide a summary of the project description (a page or less) with reference to the funding request.

Results or Benefits Expected

Identify the results and benefits to be derived.

For example, explain how your proposed project will achieve the specific goals and objectives you have set. Or, explain how the expected results will benefit the population to be served in meeting its needs for early learning services and activities. What lessons will be learned which might help other agencies and organizations that are addressing the needs of a similar population?

Approach

Outline a plan of action that describes the scope and detail of how the proposed work will be accomplished. Account for all functions or activities identified in the application. Cite factors that might accelerate or decelerate the work and state your reason for taking the proposed approach rather than others. Describe any unusual features of the project such as design or technological innovations, reductions in cost or time, or extraordinary social and community involvement.

Provide quantitative monthly or quarterly projections of the accomplishments to be achieved for each function or activity in such terms as the number of people to be served and the number of activities accomplished.

Evaluation

Provide a narrative addressing how the conduct of the project and the results of the project will be evaluated. In addressing the evaluation of results, state how you will determine the extent to which the project has achieved its stated objectives and the extent to which the accomplishment of objectives can be attributed to the project. Discuss the criteria to be used to evaluate results, and explain the methodology that will be used to determine if the needs identified and discussed are being met and if the project results and benefits are being achieved. With respect to the conduct of the project, define the procedures to be employed to determine whether the project is being conducted in a manner consistent with the work plan presented and discuss the impact of the project's various activities on the project's effectiveness.

Staff and Position Data

Provide a biographical sketch and job description for each key person appointed. Job descriptions for each vacant key position should be included as well. As new key staff is appointed, biographical sketches will also be required.

Organizational Profiles

Provide information on the applicant organization(s) and cooperating partners, such as organizational charts, financial statements, audit reports or statements from CPAs/Licensed Public Accountants, Employer Identification Numbers, names of bond carriers, contact persons and telephone numbers, child care licenses and other documentation of professional accreditation, information on compliance with Federal/State/local government standards, documentation of experience in the program area, and other pertinent information. If the applicant is a non-profit organization, submit proof of non-profit status in its application.

The non-profit agency can accomplish this by providing: (a) A reference to the applicant organization's listing in the Internal Revenue Service's (IRS) most recent list of tax-exempt organizations described in the IRS Code; (b) a copy of a currently valid IRS tax exemption certificate, (c) a statement from a State taxing body, State attorney general, or other appropriate State official certifying that the applicant organization has a non-profit status and that none of the net earnings accrue to any private shareholders or individuals; (d) a certified copy of the organization's certificate of incorporation or similar document that clearly establishes non-profit status, (e) any of the items immediately above for a State or national parent organization and a statement signed by the parent organization that the applicant organization is a local non-profit affiliate.

Letters of Support

Provide statements from community, public and commercial leaders that support the project proposed for funding. All submissions should be included in the application or by application deadline.

Budget and Budget Justification

Provide a budget with line item detail and detailed calculations for each budget object class identified on the Budget Information form. Detailed calculations must include estimation methods, quantities, unit costs, and other similar quantitative detail sufficient for the calculation to be duplicated. Also include a breakout by the funding sources identified in Block 15 of the SF-424.

Provide a narrative budget justification that describes how the categorical costs are derived. Discuss the necessity, reasonableness, and allocability of the proposed costs.

General

Use the following guidelines for preparing the budget and budget justification. Both Federal and non-Federal resources shall be detailed and justified in the budget and narrative justification. “Federal resources” refers only to the ACF grant for which you are applying. “Non Federal resources” are all other Federal and non-Federal resources. It is suggested that budget amounts and computations be presented in a columnar format: first column, object class categories; second column, Federal budget; next column(s), non-Federal budget(s), and last column, total budget. The budget justification should be a narrative.

Personnel

Description: Costs of employee salaries and wages.

Justification: Identify the project director or principal investigator, if known. For each staff person, provide the title, time commitment to the project (in months), time commitment to the project (as a percentage or full-time equivalent), annual salary, grant salary, wage rates, etc. Do not include the costs of consultants or personnel costs of delegate agencies or of specific project(s) or businesses to be financed by the applicant.

Fringe Benefits

Description: Costs of employee fringe benefits unless treated as part of an approved indirect cost rate.

Justification: Provide a breakdown of the amounts and percentages that comprise fringe benefit costs such as health insurance, FICA, retirement insurance, taxes, etc.

Travel

Description: Costs of project-related travel by employees of the applicant organization (does not include costs of consultant travel).

Justification: For each trip, show the total number of traveler(s), travel destination, duration of trip, per diem, mileage allowances, if privately owned vehicles will be used, and other transportation costs and subsistence allowances. Travel costs for key staff to attend ACF-sponsored workshops should be detailed in the budget.

Equipment

Description: “Equipment” means an article of nonexpendable, tangible personal property having a useful life of more than one year and an acquisition cost which equals or exceeds the lesser of (a) the capitalization level established by the organization for the financial statement purposes, or (b) $5,000. (Note: Acquisition cost means the net invoice unit price of an item of equipment, including the cost of any modifications, attachments, accessories, or auxiliary apparatus necessary to make it usable for the purpose for which it is acquired. Ancillary charges, such as taxes, duty, protective in-transit insurance, freight, and installation shall be included in or excluded from acquisition cost in accordance with the organization's regular written accounting practices.)

Justification: For each type of equipment requested, provide a description of the equipment, the cost per unit, the number of units, the total cost, and a plan for use on the project, as well as use or disposal of the equipment after the project ends. An applicant organization that uses its own definition for equipment should provide a copy of its policy or section of its policy which includes the equipment definition.

Supplies

Description: Costs of all tangible personal property other than that included under the Equipment category.

Justification: Specify general categories of supplies and their costs. Show computations and provide other information which supports the amount requested.

Contractual

Description: Costs of all contracts for services and goods except for those that belong under other categories such as equipment, supplies, construction, etc. Include third party evaluation contracts (if applicable) and contracts with secondary recipient organizations, including delegate agencies and specific project(s) or businesses to be financed by the applicant.

Justification: Demonstrate that all procurement transactions will be conducted in a manner to provide, to the maximum extent practical, open and free competition. Recipients and subrecipients, other than States that are required to use part 92 procedures, must justify any anticipated procurement action that is expected to be awarded without competition and exceed the simplified acquisition threshold fixed at 41 U.S.C. 403(11) (currently set at $100,000).

Recipients might be required to make available to ACF pre-award review and procurement documents, such as request for proposals or invitations for bids, independent cost estimates, etc.

Note: Whenever the applicant intends to delegate part of the project to another agency, the applicant must provide a detailed budget and budget narrative for each delegate agency, by agency title, along with the required supporting information referred to in these instructions.

Other

Enter the total of all other costs. Such costs, where applicable and appropriate, may include but are not limited to insurance, food, medical and dental costs (noncontractual), professional services costs, space and equipment rentals, printing and publication, computer use, training costs, such as tuition and stipends, staff development costs, and administrative costs.

Justification: Provide computations, a narrative description and a justification for each cost under this category.

Indirect Charges

Description: Total amount of indirect costs. This category should be used only when the applicant currently has an indirect cost rate approved by the Department of Health and Human Services (HHS) or another cognizant Federal agency.

Justification: An applicant that will charge indirect costs to the grant must enclose a copy of the current rate agreement. If the applicant organization is in the process of initially developing or renegotiating a rate, upon notification that an award will be made, it should immediately develop a tentative indirect cost rate proposal based on its most recently completed fiscal year, in accordance with the cognizant agency's guidelines for establishing indirect cost rates, and submit it to the cognizant agency. Applicants awaiting approval of their indirect cost proposals may also request indirect costs. When an indirect cost rate is requested, those costs included in the indirect cost pool should not also be charged as direct costs to the grant. Also, if the applicant is requesting a rate which is less than what is allowed under the program, the authorized representative of the applicant organization must submit a signed acknowledgement that the applicant is accepting a lower rate than allowed.

Non-Federal Resources

Description: Amounts of non-Federal resources that will be used to support the project as identified in Block 15 of the SF-424.

Justification: The firm commitment of these resources must be documented and submitted with the application so the applicant is given credit in the review process. A detailed budget must be prepared for each funding source.

Evaluation Criteria

The following evaluation criteria appear in weighted descending order. The corresponding score values indicate the relative importance that ACF places on each evaluation criterion; however, applicants need not develop their applications precisely according to the order presented. Application components may be organized such that a reviewer will be able to follow a seamless and logical flow of information (i.e., from a broad overview of the project to more detailed information about how it will be conducted).

In considering how applicants will carry out the responsibilities addressed under this announcement, competing applications for financial assistance will be reviewed and evaluated against the following criteria:

Approach—35 Points

In reviewing the project approach, the following factors will be considered:

—The nature of the planned approach as well as the research questions are adequately described

—The planned approach addresses one or more of the priority areas identified in this announcement

—The applicant provides a clear description of how the proposed curriculum or enhancement is distinct from the existing program approach.

—The planned approach reflects sufficient input from and partnership with Head Start or Early Head Start program(s) during all phases of the project, including in the development, piloting, refinement, training, and use of curricula [The application must contain a “Letter of Agreement” from the Head Start or Early Head Start program certifying that they have entered into a partnership with the applicant and a separate letter stating that the application has been reviewed and approved by the Head Start or Early Head Start Policy Council, as required in section IV.2]

—The applicant describes steps to ensure appropriate accommodation for children with special needs or for children for whom English is not a native language when these groups of children are included in the study

—The applicant provides clearly articulated and well-founded goals and timeframes for completion of various phases of the project (development, implementation, evaluation)

—The applicant provides a convincing plan for ensuring that the fidelity of the curricular approach will be maintained and that relevant training, materials and support are provided

—The applicant provides plans for developing appropriate documentation for use in training and dissemination

—The scope of the project is reasonable for the funds available for these grants

Staff and Position Data—20 Points

In reviewing the staff and position data, the following factors will be considered:

—The extent to which the applicant is a university, four-year colleges and not-for-profit institutions on behalf of a Principal Investigator as defined below

—The extent to which the Principal Investigator and other key staff possess the programmatic and research expertise necessary to conduct the study, as demonstrated in the application and information contained in their vitae

—The extent to which the proposed staff have experience in working in a community setting and in partnership with Head Start program staff and parents

—The Principal Investigator(s) has earned a doctorate or equivalent in the relevant field, must conduct research as a primary professional responsibility, and has first or second author publications in major peer-reviewed research journals

Evaluation—20 Points

In reviewing the project evaluation plan, the following factors will be considered:

—The evaluation plan incorporates both process and outcome components, specifies the measures to be used, and includes an adequately detailed description of the analyses to be conducted

—The evaluation design and the planned measures are appropriate and sufficient to address the questions of the study

—The measures proposed for the process and outcome components are appropriate to the Head Start/Early Head Start population (including low-income and culturally and linguistically diverse children and families) and to the Head Start outcomes framework, and possess strong psychometric properties

—The evaluation design includes use of treatment and control groups, as may be appropriate

—The extent to which the analytic techniques to be utilized are appropriate for the questions under consideration

—The extent to which the process evaluation is likely to provide information on the timing and fidelity of implementation of the approach, how it contributed to the observed effects, and information that will enable successful transfer of the approach to potential additional sites in the future

—The extent to which the proposed sample size for the outcome evaluation is sufficient for the various levels or units of analysis for the study research questions This would include the size of particular subgroups of interest and would take into consideration mobility and attrition over time

Results or Benefits Expected—15 Points

In reviewing the results or benefits expected, the following factors will be considered:

—The extent to which the applicant demonstrates knowledge of the literature and the state of existing practice in the domain of interest

—The extent to which the applicant demonstrates the theoretical and empirical basis for the planned approach, and identifies appropriate scientific research that supports use of this particular approach

—The applicant clearly states the outcomes or expected benefits of the approach, articulates a “theory of change” based on empirical evidence, and presents a compelling logic model or conceptual framework indicating how use of this particular approach is expected to lead to the identified outcomes

Budget and Budget Justification—10 Points

In reviewing the budget and budget justification, the following factors will be considered:

—The extent to which the costs of the proposed project are clearly identified, justified and reasonable, in view of the activities to be conducted and expected results and benefits.

—The extent to which the applicant's fiscal controls and accounting procedures would ensure prudent use, proper and timely disbursement and accurate accounting of funds received under this program announcement.

—The extent to which the budget reserves travel funds for the Principal Investigator to attend two meetings each year. The first is an annual grantee meeting, which is typically scheduled during the summer or fall of each year and is held in Washington, DC. The second meeting each year alternates between the biennial Head Start National Research Conference in Washington, DC (June 26-29, 2006) and the biennial meeting of the Society for Research in Child Development (SRCD).

2. Review and Selection Process:

No grant award will be made under this announcement on the basis of an incomplete application.

Each application will undergo an eligibility and conformance review by Federal staff. Applications that pass the eligibility and conformance review will be evaluated on a competitive basis according to the specified evaluation criteria.

The competitive review will be conducted in the Washington, DC metropolitan area by panels of Federal and non-Federal experts knowledgeable in the areas of early childhood education and intervention research, early learning, child care, and other relevant program areas.

Application review panels will assign a score to each application and identify its strengths and weaknesses.

OPRE will conduct an administrative review of the applications and results of the competitive review panels and make recommendations for funding to the Director of OPRE.

The Director of OPRE, in consultation with the Commissioner of the Administration on Children, Youth, and Families (ACYF), will make the final selection of the applications to be funded. Applications may be funded in whole or in part depending on: (1) The ranked order of applicants resulting from the competitive review; (2) staff review and consultations; (3) the combination of projects that best meets the Bureau's objectives; (4) the funds available; and (5) other relevant considerations. The Director may also elect not to fund any applicants with known management, fiscal, reporting, program, or other problems, which make it unlikely that they would be able to provide effective services.

Since ACF will be using non-Federal reviewers in the process, applicants have the option of omitting from the application copies (not the original) specific salary rates or amounts for individuals specified in the application budget and Social Security Numbers, if otherwise required for individuals. The copies may include summary salary information.

Approved but Unfunded Applications:

Applications that are approved but unfunded may be held over for funding in the next funding cycle, pending the availability of funds, for a period not to exceed one year.

Anticipated Announcement and Award Dates:

Successful applicants will be notified through the issuance of a Financial Assistance Award notice that sets forth the amount of funds granted, the terms and conditions of the grant award, the effective date of the award, the budget period for which initial support is given, and the total project period for which support is provided. The Financial Assistance Award will be signed by the Grants Officer and transmitted via postal mail. Organizations whose applications will not be funded will be notified in writing by ACF.

VI. Award Administration Information

1. Award Notices:

The successful applicants will be notified through the issuance of a Financial Assistance Award document which sets forth the amount of funds granted, the terms and conditions of the grant, the effective date of the grant, the budget period for which initial support will be given, the non-Federal share to be provided (if applicable), and the total project period for which support is contemplated. The Financial Assistance Award will be signed by the Grants Officer and transmitted via postal mail.

Organizations whose applications will not be funded will be notified in writing.

2. Administrative and National Policy Requirements:

Grantees are subject to the requirements in 45 CFR part 74 (non-governmental) or 45 CFR part 92 (governmental).

Direct Federal grants, subaward funds, or contracts under this Program shall not be used to support inherently religious activities such as religious instruction, worship, or proselytization. Therefore, organizations must take steps to separate, in time or location, their inherently religious activities from the services funded under this Program. Regulations pertaining to the prohibition of Federal funds for inherently religious activities can be found on the HHS Web site at http://www.os.HHS.gov/fbci/waisgate21.pdf.

3. Reporting Requirements:

Grantees will be required to submit program progress and financial reports (SF-269 found at http://www.acf.hhs.gov/programs/ofs/forms.htm) throughout the project period. Program progress and financial reports are due 30 days after the reporting period. Final programmatic and financial reports are due 90 days after the close of the project period.

Program Progress Reports: Semi-Annually.

Financial Reports: Semi-Annually.

Original reports and one copy should be mailed to: Administration for Children and Families, Office of Grants Management, Division of Discretionary Grants, 370 L'Enfant Promenade SW., Washington, DC 20447.

VII. Agency Contacts

Program Office Contact: Head Start Research Support Technical Assistance Team, OPRE Grant Review Team, Xtria, LLC, 8045 Leesburg Pike, Suite 400, Vienna, VA 22182, phone: 1-877-663-0250, e-mail: opre@xtria.com.

Grants Management Office Contact: Attn: Tim Chappelle, Division of Discretionary Grants, Office of Grants Management, Administration for Children and Families, 370 L'Enfant Promenade, SW., Washington, DC 20447, phone: 202-401-4855, e-mail: tichappelle@acf.hhs.gov.

VIII. Other Information

Notice: Beginning with FY 2006, the Administration for Children and Families (ACF) will no longer publish grant announcements in the Federal Register. Beginning October 1, 2005 applicants will be able to find a synopsis of all ACF grant opportunities and apply electronically for opportunities via: http://www.Grants.gov. Applicants will also be able to find the complete text of all ACF grant announcements on the ACF Web site located at: http://www.acf.hhs.gov/grants/index.html.

Definitions:

Budget Period—for the purposes of this announcement, budget period means the 12-month period of time for which ACF funds are made available to a particular grantee (e.g., beginning on September 15, 2005, and ending on September 14, 2006.)

Project Period—for the purposes of this announcement, project period means the 36-month period starting by September 2005, and ending by September 2008.

The Head Start Act mandates that all studies, reports, proposals, and data produced or developed with Federal funds awarded under the Act shall become the property of the United States (see S. 649(f) of the Head Start Act, 42 U.S.C. 9845). HHS authorizes grantee institutions, their researchers and other persons to make use of all studies, reports, proposals, and data produced or developed under grants funded under Section 649 of the Head Start Act in activities in furtherance of the purposes of the Head Start program.

Grantees must provide copies of all materials produced with Head Start grant funds to ACF as soon as they become available.

Please reference Section IV.3 for details about acknowledgement of received applications.

Dated: May 2, 2005.
Naomi Goldstein,
Director, Office of Planning, Research and Evaluation.

[FR Doc. 05-9074 Filed 5-5-05; 8:45 am]

BILLING CODE 4184-01-P